DEPARTMENT OF HEALTH AND HUMAN SERVICES

National Institutes of Health

Standards of Care for Chimpanzees Held in the Federally Supported Sanctuary System; Correction

AGENCY: National Institutes of Health, Health and Human Services (HHS).

ACTION: Notice; correction.

SUMMARY: The Department of Health and Human Services, National Institutes of Health published a Final rule; technical amendments document in the Federal Register on September 1, 2020. That document requires a correction in the SUPPLEMENTARY INFORMATION section.

FOR FURTHER INFORMATION CONTACT: Daniel Hernandez, Acting NIH Regulations Officer, Office of Management Assessment, Division of Management Support, 6011 Executive Boulevard, Suite 601, Rockville, Maryland 20852-7669, telephone 301-435-3343, email dhernandez@od.nih.gov.

SUPPLEMENTARY INFORMATION: Correction:

In the Federal Register of September 1, 2020, in FR Doc. 2020-17090, on page 54273, in the first column, in section 42 CFR 9.3 [Amended], 9.3b, it currently reads “In paragraph (a)(8)” and should read “In paragraph (a)(2)(xiii)(F)(8)”.

Dated: September 8, 2020.
Wilma Robinson,
Deputy Executive Secretary, Department of Health and Human Services.

[FR Doc. 2020-20416 Filed 9-15-20; 8:45 am]

BILLING CODE 4140-01-P